FEDERAL COMMUNICATIONS COMMISSION

47 CFR Part 73

[DA 14-1479]

Radio Broadcasting Services; Various Locations

AGENCY: Federal Communications Commission.

ACTION: Final rule.

SUMMARY: The Audio Division amends the FM Table of Allotments to remove certain vacant FM allotments that were auctioned in FM Auction 93 that are currently considered authorized stations. FM assignments for authorized stations and reserved facilities will be reflected solely in Media Bureau's Consolidated Database System (CDBS).

DATES: Effective October 28, 2014.

FOR FURTHER INFORMATION CONTACT: Rolanda F. Smith, Media Bureau, (202) 418-2700.

SUPPLEMENTARY INFORMATION: This is a summary of the Report and Order, DA 14-1479, adopted October 9, 2014, and released October 10, 2014. The full text of this document is available for inspection and copying during normal business hours in the Commission's Reference Center 445 12th Street SW., Washington, DC 20554. The complete text of this document may also be purchased from the Commission's duplicating contractor, Best Copy and Printing, Inc., 445 12th Street SW., Room CY-B402, Washington, DC, 20054, telephone 1-800-378-3160 or www.BCPIWEB.com. The Commission will not send a copy of this Report and Order pursuant to the Congressional Review Act, see 5 U.S.C. 801(a)(1)(A), because the adopted rules are rules of particular applicability. This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

List of Subjects in 47 CFR Part 73

Radio, Radio broadcasting.

Federal Communications Commission.
Nazifa Sawez,
Assistan Chief, Audio Division, Media Bureau.

For the reasons discussed in the preamble, the Federal Communications Commission amends 47 CFR part 73 as follows:

PART 73—RADIO BROADCASTING SERVICES

1. The authority citation for part 73 continues to read as follows:

Authority: 47 U.S.C. 154, 303, 334, 336 and 339.

§ 73.202 [Amended]

2. Amend § 73.202(b), the Table of FM Allotments, as follows:

a. Remove Rockford, under Alabama, Channel 286A.

b. Remove Fairbanks, under Alaska, Channel 224C2 and Channel 232C2.

c. Remove Ash Fork, under Arizona, Channel 259A.

d. Remove Altheimer, under Arkansas, Channel 251C3; Pine Bluff, Channel 257A and Channel 267C3; and Strong, Channel 296C3.

e. Remove Blythe, under California, Channel 247B; Cloverdale, Channel 274A; Desert Center, Channel 288A; Ridgecrest, Channel 229A; Willows, Channel 292A.

f. Remove Dinosaur, under Colorado, Channel 262C0; Fruita, Channel 268C3; Gunnison, Channel 265C2; Hotchkiss, Channel 258C3; and Walden, Channel 226C3.

g. Remove Sugarloaf Key, under Florida, Channel 289A.

h. Remove Milner, under Georgia, Channel 290A; Morgan, Channel 228A; and Ty Ty, Channel 249A.

i. Remove Dubois, under Idaho, Channel 243A.

j. Remove Augusta, under Illinois, Channel 253A.

k. Remove Culver, under Indiana, Channel 252A.

l. Remove Sanborn, under Iowa, Channel 264A.

m. Remove Phillipsburg, under Kansas, Channel 237A.

n. Remove Bordelonville, under Louisiana, Channel 280A; Cameron, Channel 296C3; Colfax, Channel 267A; Franklin, Channel 295C3; Homer, Channel 272A; and New Llano, Channel 252C3.

o. Remove Alpena, under Michigan, Channel 289A; Fife Lake, Channel 240C2; and Onekama, Channel 227A.

p. Remove Calhoun City, under Mississippi, Channel 272A.

q. Remove Deerfield, under Missouri, Channel 264C3.

r. Remove Battle Mountain, under Nevada, Channel 253A; and Fernley, Channel 231C3.

s. Remove Carrizozo, under New Mexico, Channel 261C2 and Las Vegas; Channel 296A; and Tularosa, Channel 274C3.

t. Remove Medina, under North Dakota, Channel 222C; Sarles, Channel 290C1; Tioga, Channel 281C1; and Williston, Channel 253C1.

u. Remove Ashtabula, under Ohio, Channel 241A and Cridersville, Channel 257A.

v. Remove Alva, under Oklahoma, Channel 289C2; Broken Bow, Channel 285A; Cheyenne, Channel 247C3; Covington, Channel 290A; Pittsburg, Channel 232A; Red Oak, Channel 227A; and Tishomingo, Channel 259C3.

w. Remove Grants Pass, under Oregon, Channel 257A; Keno, Channel 253A; Malin, Channel 263A; and Terrebonne, Channel 293C2.

x. Remove Sheffield, under Pennsylvania, Channel 286A.

y. Remove Mission, under South Dakota, Channel 264A and Murdo, Channel 283A.

z. Remove Byrdstown, under Tennessee, Channel 255A.

aa. Remove Buffalo, under Texas, Channel 278A; Eldorado, Channel 258C1; Giddings, Channel 240A; Hamlin, Channel 283C2; Kingsland, Channel 284A; Mullin, Channel 224C3; and Channel 288C3 at Santa Anna.

bb. Remove Fountain Green, under Utah, Channel 260A; Manila, Channel 228A; and Mona, Channel 225A.

cc. Remove Canaan, under Vermont, Channel 231C3 and Poultney, Channel 223A.

dd. Remove Iron Gate, under Virginia, Channel 270A.

ee. Remove Goldendale, under Washington, Channel 240A and Port Angeles, Channel 271A.

ff. Remove White Sulphur Springs, under West Virginia, Channel 227A.

gg. Remove Rhinelander, under Wisconsin, Channel 243C3.

hh. Remove Byron, under Wyoming, Channel 221C; and Centennial, Channel 248A.

[FR Doc. 2014-25645 Filed 10-27-14; 8:45 am]

BILLING CODE 6712-01-P